DEPARTMENT OF DEFENSE

Department of the Navy

Notice of Availability of Record of Decision for Naval Air Station Key West Airfield Operations, FL

AGENCY: Department of the Navy, DoD.

ACTION: Notice.

SUMMARY: The United States Department of the Navy, after carefully weighing the strategic, operational and environmental consequences of the proposed action, announces its decision to support and conduct airfield operations at Naval Air Station (NAS) Key West by accomplishing the proposed action as set out in Alternative 2. Alternative 2 will provide for the transition from legacy aircraft to next generation aircraft, alteration of existing facilities as necessary to meet requirements for next generation aircraft, and will potentially accommodate carrier air wing detachment training events should primary carrier air wing training locations on the U.S. East Coast be unavailable. Total annual airfield operations could equal up to approximately 52,000 operations.

SUPPLEMENTARY INFORMATION: The complete text of the Record of Decision (ROD) is available on the project Web site at http://www.keywesteis.com, along with the Final Environmental Impact Statement for NAS Key West Airfield Operations, dated July 2013 and supporting documents. Single copies of the ROD are available upon request by contacting: Naval Facilities Engineering Command Southeast, Attn: NAS Key West Airfield Operations EIS Project Manager, P.O. Box 30, Building 903, NAS Jacksonville, FL 32212.

Dated: November 1, 2013.
N.A. Hagerty-Ford,
Commander, Office of the Judge Advocate General, U.S. Navy, Federal Register Liaison Officer.

[FR Doc. 2013-26705 Filed 11-6-13; 8:45 am]

BILLING CODE 3810-FF-P